DEPARTMENT OF AGRICULTURE

Grain Inspection, Packers and Stockyards Administration

7 CFR Part 800

RIN 0580-AB24

Reauthorization of the United States Grain Standards Act; Extension of Comment Period

AGENCY: Grain Inspection Packers and Stockyards Administration, USDA.

ACTION: Proposed rule; extension of comment period.

SUMMARY: The Department of Agriculture (USDA) Grain Inspection, Packers and Stockyards Administration (GIPSA) is extending the comment period for its proposed rule addressing changes to the United States Grain Standards Act (USGSA), as amended, in order to comply with amendments to the USGSA made by the Agriculture Reauthorizations Act of 2015.

DATES: The comment period for the proposed rule published January 25, 2016 (81 FR 3970), is extended until April 25, 2016.

ADDRESSES: We invite you to submit comments on this rule. In your comments, please include the Regulation Identifier Number (RIN) and the volume, date, and page number of this issue of the Federal Register. You may submit comments by any of the following methods:

• Federal eRulemaking Portal: Go to http://www.regulations.gov and follow the online instructions for submitting comments.

• Mail, hand deliver, or courier to Dexter Thomas, GIPSA, USDA, 1400 Independence Avenue SW., Room 2526-S, Washington, DC 20250-3642.

Comments will be available online at www.regulations.gov. Comments may also be inspected at the mail address listed above between 8:00 a.m. and 4:30 p.m., Monday through Friday, except federal holidays. A copy of this proposed rule is available through the GIPSA homepage at http://www.gipsa.usda.gov.

FOR FURTHER INFORMATION CONTACT: Barry Gomoll, 202-720-8286.

Persons with disabilities who require alternative means for communication (Braille, large print, audio tape, etc.) should contact the USDA Target Center at (202) 720-2600 (voice and TDD).

SUPPLEMENTARY INFORMATION: On January 25, 2016, GIPSA published a proposed rule in the Federal Register (81 FR 3970) to amend 7 CFR part 800 to comply with the Agricultural Reauthorizations Act of 2016 (Pub. L. 114-54). In response to requests from several interested groups, GIPSA has decided to extend the comment period for 30 days.

Larry Mitchell,
Administrator, Grain Inspection, Packers and Stockyards.

[FR Doc. 2016-03863 Filed 2-23-16; 8:45 am]

BILLING CODE 3410-KD-P